FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 28, 2003.

A. Federal Reserve Bank of New York (Jay Bernstein, Bank Supervision Officer) 33 Liberty Street, New York, New York 10045-0001:

1. Barry M. Snyder, Buffalo, New York; to acquire more than 10 percent, but less than 25 percent of the voting shares of Great Lakes Bancorp, Inc., Buffalo, New York, and thereby indirectly acquire voting shares of Greater Buffalo Savings Bank, Buffalo, New York.

B. Federal Reserve Bank of Kansas City (James Hunter, Assistant Vice President) 925 Grand Avenue, Kansas City, Missouri 64198-0001:

1. Christian A. Royer, St. Marys, Kansas; to acquire control of PCI Holdings, Inc., and thereby indirectly acquire The St. Marys State Bank, both of St. Marys, Kansas.

Board of Governors of the Federal Reserve System, November 10, 2003.
Robert deV. Frierson,
Deputy Secretary of the Board.

[FR Doc. 03-28550 Filed 11-13-03; 8:45 am]

BILLING CODE 6210-01-S